DEPARTMENT OF AGRICULTURE

Forest Service

Trinity County Resource Advisory Committee (RAC); Meeting

AGENCY: Forest Service, USDA.

ACTION: Notice of meeting.

SUMMARY: The Trinity County Resource Advisory Committee (RAC) will meet on April 29, 2002, Weaverville, Calif. The purpose of the meeting is voting on road restoration and vegetation reduction projects; forming subcommittees to address contracting, grants and agreements; and discussing the community model forest concept.

DATES: The meeting will be held on April 29, 2002 from 6:30 to 8:30 p.m.

ADDRESSES: The meeting will be held at the Trinity County Office of Education conference room, 201 Memorial Drive, Weaverville, Calif.

FOR FURTHER INFORMATION CONTACT: Joyce Andersen, Designated Federal Official, USDA, Shasta-Trinity National Forest, P.O. Box 1190, Weaverville, CA 96093. Phone: (530) 623-2121. Email: jandersen@fs.fed.us.

SUPPLEMENTARY INFORMATION: The meeting is open to the public. Public input opportunity will be provided and individuals will have the opportunity to address the committee at that time.

Dated: April 16, 2002.
James M. Peña,
Deputy Forest Supervisor.

[FR Doc. 02-9968 Filed 4-23-02; 8:45 am]

BILLING CODE 3410-11-M